DEPARTMENT OF THE TREASURY

Alcohol and Tobacco Tax and Trade Bureau

27 CFR Part 9

[Docket No. TTB-2020-0008; T.D. TTB-180; Ref: Notice No. 193]

RIN 1513-AC58

Establishment of the Mount Pisgah, Polk County, Oregon Viticultural Area

AGENCY: Alcohol and Tobacco Tax and Trade Bureau, Treasury.

ACTION: Final rule; Treasury decision.

SUMMARY: The Alcohol and Tobacco Tax and Trade Bureau (TTB) establishes the approximately 5,850-acre “Mount Pisgah, Polk County, Oregon” viticultural area in Polk County, Oregon. The viticultural area is located entirely within the existing Willamette Valley viticultural area. TTB designates viticultural areas to allow vintners to better describe the origin of their wines and to allow consumers to better identify wines they may purchase.

DATES: This final rule is effective July 5, 2022.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act provisions pursuant to section 1111(d) of the Homeland Security Act of 2002, as codified at 6 U.S.C. 531(d). In addition, the Secretary of the Treasury has delegated certain administrative and enforcement authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission to TTB of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• If the proposed AVA is to be established within, or overlapping, an existing AVA, an explanation that both identifies the attributes of the proposed AVA that are consistent with the existing AVA and explains how the proposed AVA is sufficiently distinct from the existing AVA and therefore appropriate for separate recognition;

• The appropriate United States Geological Survey (USGS) map(s) showing the location of the proposed AVA, with the boundary of the proposed AVA clearly drawn thereon; and

• A detailed narrative description of the proposed AVA boundary based on USGS map markings.

Mount Pisgah, Polk County, Oregon Petition

TTB received a petition from the representatives of the vineyards and wineries within the proposed AVA, proposing to establish the “Mount Pisgah, Polk County, Oregon” AVA. The proposed AVA is located in Polk County, Oregon, and lies entirely within the established Willamette Valley AVA (27 CFR 9.90). Within the approximately 5,850-acre proposed AVA, there are 10 commercial vineyards which cover a total of approximately 531 acres, as well as 2 wineries. The petition notes that vineyard owners also plan to expand 4 of the existing vineyards by a total of 164 acres. The distinguishing features of the proposed Mount Pisgah, Polk County, Oregon AVA are its topography, climate, geology, and soils.

The proposed Mount Pisgah, Polk County, Oregon AVA is located on a small mountain in the hills of the Willamette Valley. Elevations range from 260 feet at the foot of the mountain to 835 feet at the peak. The proposed AVA is surrounded in all directions by lower elevations of the Willamette Valley floor. The petition states that the proposed AVA's elevated location protects the proposed AVA from the higher wind speeds that occur on the valley floor.

According to the petition, temperatures within the proposed Mount Pisgah, Polk County, Oregon AVA are cooler than the regions to the east and north-northeast, with average annual growing degree day ¹ (GDD) accumulation of 2,543 GDDs. The average annual GDD accumulations favor the production of grape varietals such pinot noir, pinot gris, and chardonnay, which are the most commonly grown grape varietals within the proposed AVA. In comparison, GDD accumulations in the city of Salem, approximately 18 miles east of the proposed AVA, averaged 2,903 GDDs, and the town of McMinnville, 23 miles to the north-northeast of the proposed AVA, averaged 2661 GDDs.

¹ See Albert J. Winkler et al., General Viticulture (Berkeley: University of California Press, 2nd. ed. 1974), pages 61-64. In the Winkler scale, the GDD regions are defined as follows: Region I = less than 2,500 GDDs; Region II = 2,501-3,000 GDDs; Region III = 3,001-3,500 GDDs; Region IV = 3,501-4,000 GDDs; Region V = greater than 4,000 GDDs.

The proposed AVA also has lower average wind speeds than the regions to the east and north-northeast. The average wind speed within the proposed Mount Pisgah, Polk County, Oregon AVA is 2.3 miles per hour (mph), while winds in the city of Salem average 6.1 mph, and winds in the town of McMinnville average 5.2 mph. According to the petition, high winds can break new grapevine shoots and desiccate grapes.

The petition states that the proposed Mount Pisgah, Polk County, Oregon AVA is bounded topographically around a unique geological formation that only occurs within the proposed AVA. The parent material of the mountain comes from the Siletz River volcanics of the middle and lower Eocene and Paleocene (approximately 40 to 60 million years ago). The rocks are zeolotized (contain aluminum) and veined with calcite, and were sea floor mountains. The Siletz River volcanics are exposed near the summit of Mount Pisgah, where it directly affects the soils and viticulture. The Siletz River volcanics are the oldest rocks in the Willamette Valley, and occur below marine sediments six miles from the Willamette River, which makes the proposed AVA unique, according to the petition. Because the geology of the proposed AVA is different from that of the surrounding regions, grapevine roots within the proposed AVA will have access to a different set of minerals and nutrients than grapevines grown elsewhere.

The geology of the proposed Mount Pisgah, Polk County, Oregon AVA also affects the composition of the soils. According to the petition, 97.2 percent of the soils within the proposed AVA contain colluvium or residuum as parent material, both of which are ancient sedimentary soils. The only alluvial parent material in the area is old alluvium coming from the Missoula Flood, which comprises 2.1 percent of the proposed AVA. The soils generally have fine to coarse grains with calcareous concretions and are carbonaceous and micaceous. The main soil series in the proposed AVA are silty clay loams, which make up 92.1 percent of all soils within the proposed AVA and include the Bellpine, Jory, Nekia, Rickreall, and Willakenzie soil series. The soils are classified as well drained but also have adequate water-holding capabilities, which enables dry farming within the proposed AVA.

By comparison, the areas surrounding the proposed Mount Pisgah, Polk County, Oregon AVA all contain alluvial deposits from the recent quaternary period, instead of sedimentary deposits. To the north of the proposed AVA, soils are clayey alluvium and do not drain as well as the soils within the proposed AVA. To the west of the proposed AVA, the soils are alluvial loam and are more poorly drained. To the south of the proposed AVA, soils are silty alluvial. To the east of the proposed AVA, soils are silty alluvium and alluvial loam and also do not drain as well as the soils in the proposed AVA.

Notice of Proposed Rulemaking and Comments Received

TTB published Notice No. 193 in the Federal Register on October 1, 2020 (85 FR 61907), proposing to establish the Mount Pisgah, Polk County, Oregon AVA. In the notice, TTB summarized the evidence from the petition regarding the name, boundary, and distinguishing features for the proposed AVA. The notice also compared the distinguishing features of the proposed AVA to the surrounding areas. For a detailed description of the evidence relating to the name, boundary, and distinguishing features of the proposed AVA, and for a detailed comparison of the distinguishing features of the proposed AVA to the surrounding areas, see Notice No. 193.

In Notice No. 193, TTB solicited comments on the accuracy of the name, boundary, and other required information submitted in support of the petition. In addition, given the proposed AVA's location within the Willamette Valley AVA, TTB solicited comments on whether the evidence submitted in the petition regarding the distinguishing features of the proposed AVA sufficiently differentiates it from the established AVA. TTB also requested comments on whether the geographic features of the proposed AVA are so distinguishable from the established Willamette Valley AVA that the proposed AVA should no longer be part of the established AVA. The comment period closed November 30, 2020.

In response to Notice No. 193, TTB received 19 comments. Commenters included local vineyard and winery owners, winemakers, and vineyard managers. All 19 of the comments support the establishment of the proposed Mount Pisgah, Polk County, Oregon AVA.

Proposal To Modify Proposed AVA Name

One comment (comment 7) supports the proposed Mount Pisgah, Polk County Oregon AVA but also suggests modifying the name. The comment claims that, while other regions known as “Mount Pisgah” exist in Oregon, those regions are not conducive to viticulture. Therefore, the comment recommends shortening the proposed name to “Mount Pisgah.” Two of the other comments support this idea of a shortened name (comments 13 and 15), with one of the comments (comment 15) noting that the other regions in Oregon known as Mount Pisgah are located on public lands and are unlikely to be available for commercial viticulture.

TTB Response

One of the purposes of designating AVAs is to provide consumers more information about the origin of the grapes used to make the wine. Because there are at least three geographic features in Oregon known as “Mount Pisgah,” TTB believes that it is important to clarify to which feature the wine label refers. Although the commenters state that the proposed AVA is the only “Mount Pisgah” where viticulture takes place in Oregon, consumers might not be aware of this and might assume that the AVA name refers to one of the other regions. Therefore, TTB believes that including the county in the proposed AVA name is necessary in order to reduce the chance of consumer confusion. Additionally, because Polk County is a common county name within the U.S., and multiple States have geographic features known as “Mount Pisgah,” TTB does not believe that shortening the proposed AVA name to “Mount Pisgah, Polk County” would sufficiently identify the proposed AVA's location. For these reasons, TTB is not considering establishing the AVA with an abbreviated shortened name.

Proposal To Expand the Proposed AVA

One comment (comment 8) supports the establishment of the Mount Pisgah, Polk County, Oregon AVA but also requests modifying the proposed boundary. The comment, submitted on behalf of Atlas Vineyard Management, Inc., requests extending the proposed AVA boundary southward to include a 65-acre vineyard on a neighboring hill. The comment claims that the climate, topography, geology, and soils of the proposed expansion area are similar to those of the proposed AVA. As evidence, the comment included information on the GDDs, mean July temperature, wind speeds, elevation, slope aspect, geology, and soils of the proposed expansion area.

Four other comments submitted in response to Notice No. 193 address this boundary modification, and all four comments oppose it (comments 11, 12, 13, and 15). Two comments (comments 11 and 15) oppose the proposed expansion, in part, because they claim the proposed “Mount Pisgah, Polk County, Oregon” name does not apply to the proposed expansion area, which is located on a separate geographic feature known as Fishback Hill. Several of the comments also include anecdotal evidence of temperature differences between the proposed AVA and the proposed expansion area, noting that they have encountered ice or rain in the region of the proposed expansion area on days when the proposed AVA was free of ice or rain.

Comments 12 and 15 both address the soil evidence in the request to expand the proposed AVA. Both comments claim that the soils of the proposed AVA are, in fact, distinguishable from those of the proposed expansion area. Comment 12 claims that the proposed expansion area contains more Willakenzie soils than the proposed AVA. Comment 15 claims that a combination of marine sediments and volcanic basalt is unique to the proposed Mount Pisgah, Polk County, Oregon AVA, as stated in the proposed AVA petition. The comment goes on to say that, contrary to the claims in the expansion proposal, there are at least five acres of vines planted on this combination of soils at the summit of Mount Pisgah. Comment 15 also states that the Spencer Formation, which the expansion proposal claims is a geologic formation shared by the proposed AVA and the proposed expansion area, stretches nearly the entire length of the Willamette Valley AVA. As a result, the comment claims the fact that the proposed AVA and the proposed expansion area share this underlying geologic feature is simply a coincidence and not a distinctive feature of the two regions.

Finally, comment 13 addresses the GDD and wind speed data included in the expansion proposal. The comment notes that the 2015-2018 April/May GDD accumulations from the proposed expansion area are lower than those of the proposed Mount Pisgah, Polk County, Oregon AVA. The comment states that lower GDD accumulations in these months can result in bud break and bloom dates that are later than in the proposed AVA. The comment also notes that the 2016 April/May and June/October wind speeds are 20 and 40 percent higher, respectively, in the proposed expansion area than they are in the proposed AVA.

TTB Response

After examining the information provided, TTB has determined that there is not sufficient evidence to support inclusion of the proposed expansion area at this time. The information presented does not show that the proposed expansion area shares the distinguishing features or name evidence of the proposed Mount Pisgah, Polk County, Oregon AVA. First, TTB has determined that the comment requesting the expanded boundaries does not include evidence that the proposed AVA name extends to the proposed expansion area.

Additionally, based on the information provided, TTB also found that several aspects of the climate, geologic, and soil features of the proposed AVA appear to be dissimilar to those of the expansion area proposed in comment 8. First, comment 8 included one year of wind speed data (2016) from within both the proposed expansion area and the proposed AVA and two years of data (2017-2018) from the proposed expansion area and two regions on the Willamette Valley floor outside of the proposed AVA. Although the two-year data suggests that the proposed expansion area has wind speeds lower than those found on the Willamette Valley floor, the 2016 data suggests that wind speeds in the proposed expansion area may be consistently higher than those within the proposed AVA. Without additional wind speed data from within both the proposed expansion area and the proposed AVA, TTB cannot determine that the proposed expansion area's wind speeds are similar enough to warrant inclusion in the proposed Mount Pisgah, Polk County AVA.

Furthermore, based on the information in comment 8, the early-season GDDs of the proposed expansion area also appear to be different from those of the proposed Mount Pisgah, Polk County, Oregon AVA. The comment included 2014-2016 GDD data from within the proposed expansion area, the proposed AVA, and two locations on the Willamette Valley floor. The comment also included 2017-2018 GDD data from within the proposed expansion area and the two locations on the valley floor, but not from within the proposed AVA. Although the 2014-2016 GDDs in both the proposed AVA and the proposed expansion area are lower than those found in the two locations on the valley floor, the 2014-2016 April/May GDD accumulations are noticeably lower in the proposed expansion area than in the proposed AVA. Furthermore, the 2014-2016 seasonal GDD accumulations for the proposed expansion area are also lower than those for the proposed AVA. Therefore, TTB does not believe that comment 8 provided sufficient evidence to show that the proposed AVA and the proposed expansion share similar GDD accumulations.

With regard to geologic features, comment 8 notes that the Spencer Formation is present beneath both the proposed expansion area and the proposed Mount Pisgah, Polk County, Oregon AVA. However, the proposed AVA petition did not describe the presence of the Spencer Formation as a distinguishing feature. The presence of the Siletz River volcanics is the distinguishing geologic feature of the proposed AVA, and it does not appear to occur in the proposed expansion area. Therefore, TTB does not believe that comment 8 provided sufficient evidence to show that the proposed expansion area shares the distinguishing geologic feature of the proposed AVA.

Based on the soil map included in the expansion request comment (comment 8), TTB cannot determine conclusively whether Willakenzie soils are more prevalent in the proposed expansion area than in the proposed AVA, as suggested in comment 12. However, based on the same map, TTB does believe that the proposed expansion area lacks the Nekia soils, which the proposed AVA petition states make up 8.1 percent of the soils in the proposed AVA. The map also appears to show that Rickreal soils, which comprise 7.8 percent of the proposed AVA soils, are not as common in the proposed expansion area, and that Dupee soils may be more common in the proposed expansion area than in the proposed AVA. For these reasons, TTB has determined that comment 8 provided insufficient evidence to show that the proposed expansion area shares the distinctive soil composition of the proposed Mount Pisgah, Polk County, Oregon AVA.

TTB Determination

After careful review of the petition and the comments received in response to Notice No. 193, TTB finds that the evidence provided by the petitioner supports the establishment of the Mount Pisgah, Polk County, Oregon AVA, as originally proposed. TTB is not expanding the Mount Pisgah, Polk County, Oregon AVA to include the region requested in comment 8, although TTB would be willing to consider a separate petition to establish a new AVA in that region or a separate expansion petition that provides the requisite name and distinguishing features information. Accordingly, under the authority of the FAA Act, section 1111(d) of the Homeland Security Act of 2002, and parts 4 and 9 of the TTB regulations, TTB establishes the “Mount Pisgah, Polk County, Oregon” AVA in Polk County, Oregon, effective 30 days from the publication date of this document.

TTB has also determined that the Mount Pisgah, Polk County, Oregon AVA will remain part of the established Willamette Valley AVA. As discussed in Notice No. 193, the Mount Pisgah, Polk County, Oregon AVA shares some broad characteristics with the established AVA. For example, the Mount Pisgah, Polk County, Oregon AVA and the Willamette Valley AVA do not contain elevations over 1,000 feet. Additionally, both areas contain mostly silty and clay loam soils. However, the Mount Pisgah, Polk County, Oregon AVA differs from the Willamette Valley AVA because it is located entirely on a small mountain with elevations that are higher than those of the surrounding valley floor. Due to its higher elevations, wind speeds within the AVA are lower than in other parts of the Willamette Valley AVA that have lower elevations. Lastly, the Siletz River volcanics parent material is a unique geological feature which occurs within the Mount Pisgah, Polk County, Oregon AVA but not within the remainder of the Willamette Valley AVA.

Boundary Description

See the narrative description of the boundary of the Mount Pisgah, Polk County, Oregon AVA in the regulatory text published at the end of this final rule.

Maps

The petitioners provided the required maps, and they are listed below in the regulatory text. The Mount Pisgah, Polk County, Oregon AVA boundary may also be viewed on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

With the establishment of the Mount Pisgah, Polk County, Oregon AVA, its name, “Mount Pisgah, Polk County, Oregon,” will be recognized as a name of viticultural significance under § 4.39(i)(3) of the TTB regulations (27 CFR 4.39(i)(3)). TTB is also designating “Mt. Pisgah, Polk County, Oregon” as a term of viticultural significance, and is allowing the word “Mount” to be abbreviated as “Mt.” The text of the regulations clarifies this point. Consequently, wine bottlers using the name “Mount (or “Mt.”) Pisgah, Polk County, Oregon” in a brand name, including a trademark, or in another label reference as to the origin of the wine, will have to ensure that the product is eligible to use the AVA name as an appellation of origin. TTB is not designating “Mount (or “Mt.”) Pisgah,” by itself, as a term of viticultural significance due to the number of locations in the United States known as Mount Pisgah. Therefore, wine bottlers using “Mount (or “Mt.”) Pisgah,” standing alone, in a brand name or in another label reference on their wines will not be affected by the establishment of this AVA.

The establishment of the Mount Pisgah, Polk County, Oregon AVA will not affect the existing Willamette Valley AVA, and any bottlers using “Willamette Valley” as an appellation of origin or in a brand name for wines made from grapes grown within the Willamette Valley will not be affected by the establishment of this new AVA. The establishment of the Mount Pisgah, Polk County, Oregon AVA will allow vintners to use “Mount (or “Mt.”) Pisgah, Polk County, Oregon” and “Willamette Valley” as appellations of origin for wines made primarily from grapes grown within the Mount Pisgah, Polk County, Oregon AVA if the wines meet the eligibility requirements for the appellation.

Regulatory Flexibility Act

TTB certifies that this regulation will not have a significant economic impact on a substantial number of small entities. The regulation imposes no new reporting, recordkeeping, or other administrative requirement. Any benefit derived from the use of an AVA name would be the result of a proprietor's efforts and consumer acceptance of wines from that area. Therefore, no regulatory flexibility analysis is required.

Executive Order 12866

It has been determined that this final rule is not a significant regulatory action as defined by Executive Order 12866 of September 30, 1993. Therefore, no regulatory assessment is required.

Drafting Information

Karen A. Thornton of the Regulations and Rulings Division drafted this final rule.

List of Subjects in 27 CFR Part 9

Wine.

The Regulatory Amendment

For the reasons discussed in the preamble, TTB amends title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.284 to read as follows:

§ 9.284 Mount Pisgah, Polk County, Oregon.

(a) Name. The name of the viticultural area described in this section is “Mount Pisgah, Polk County, Oregon”. The word “Mount” may be abbreviated as “Mt.” in the name of this AVA. For purposes of part 4 of this chapter, “Mount Pisgah, Polk County, Oregon” and “Mt. Pisgah, Polk County, Oregon” are terms of viticultural significance.

(b) Approved maps. The two United States Geological Survey (USGS) 1:24,000 scale topographic maps used to determine the boundary of the Mount Pisgah, Polk County, Oregon viticultural area are titled:

(1) Dallas, OR, 2014; and

(2) Airlie North, OR, 2014.

(c) Boundary. The Mount Pisgah, Polk County, Oregon viticultural area is located in Polk County in Oregon. The boundary of the Mount Pisgah, Polk County, Oregon viticultural area is as described below:

(1) The beginning point is on the Dallas map at the point where the 320-foot elevation contour intersects Mistletoe Road south of the unnamed road known locally as SE Lewis Street. From the beginning point, proceed south along Mistletoe Road for approximately 2 miles to the road's second intersection with the 740-foot elevation contour; then

(2) Proceed due west approximately 0.5 miles to the 400-foot elevation contour; then

(3) Proceed south along the 400-foot elevation contour, crossing onto the Airlie North map, to the contour's intersection with Cooper Hollow Road near Fisher Reservoir; then

(4) Proceed southeasterly along Cooper Hollow Road to its intersection with McCaleb Road; then

(5) Proceed east, then northeast, then east along McCaleb Road for approximately 1.6 miles to its intersection with Mistletoe Road and the 260-foot elevation contour; then

(6) Proceed easterly along the 260-foot elevation contour until it intersects again with Mistletoe Road; then

(7) Proceed east along Mistletoe Road for 0.3 mile to its intersection with Matney Road; then

(8) Proceed north along Matney Road for 0.6 mile to its intersection with the 260-foot elevation contour at a 90 degree turn in the road; then

(9) Proceed northwesterly along the 260-foot elevation contour to its intersection with Bursell Road; then

(10) Proceed east along Bursell Road for 0.2 mile to its intersection with the 260-foot elevation contour; then

(11) Proceed north along the 260-foot elevation contour, crossing onto the Dallas map, to the contour's intersection with Whiteaker Road; then

(12) Proceed southeasterly along Whiteaker Road for 1.0 mile to its intersection with the 260-foot elevation contour at a 90 degree turn in the road; then

(13) Proceed north, then west along the 260-foot elevation contour to its intersection with Ballard Road; then

(14) Proceed south along Ballard Road to its intersection with the 300-foot elevation contour; then

(15) Proceed northwesterly along the 300-foot elevation contour, to its intersection with Cherry Knoll Road; then

(16) Proceed south along Cherry Knoll Road to its intersection with the 320-foot elevation contour; then

(17) Proceed northwesterly along the 320-foot elevation contour, returning to the beginning point.

Signed: May 25, 2022.
Mary G. Ryan,
Administrator.
Approved: May 26, 2022.
Timothy E. Skud,
Deputy Assistant Secretary (Tax, Trade, and Tariff Policy).

[FR Doc. 2022-11715 Filed 6-2-22; 8:45 am]

BILLING CODE 4810-31-P